DEPARTMENT OF ENERGY

Federal Energy Regulatory Commission

[Project No. 2494-028]

Puget Sound Energy, Inc.; Notice of Conference Call To Discuss Progress on the White River Collaborative Settlement Process

September 17, 2003.

a. Date and Time of Meeting: October 7, 2003; 1:30 p.m. Eastern Daylight Time.

b. Conference call: Toll free 1-800-857-1738; leader's name is Mike Henry; and Passcode is HENRY. Press * 6 to mute the phone, * 6 again to un-mute the phone, and * 0 for operator assistance.

c. FERC Contact: Mike Henry at mike.henry@ferc.gov or (503) 552-2762.

d. Purpose of Meeting: Puget Sound Energy, Inc. has requested a meeting with Commission staff to discuss the progress that has been made reaching a settlement agreement for the White River Project (P-2494-028). The project is located on the White River, east of Seattle, Washington.

e. Proposed Agenda: (1) Introduction of participants, (2) Puget presentation on purpose of meeting, (3) Discussion, and (4) Meeting wrap up.

f. All local, State, and Federal agencies, Indian tribes, and other interested parties are invited to participate.

Magalie R. Salas,
Secretary.

[FR Doc. 03-24231 Filed 9-24-03; 8:45 am]

BILLING CODE 6717-01-P